DEPARTMENT OF THE TREASURY

Internal Revenue Service

Proposed Collection; Comment Request for Forms 1042 and 1042-S

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1042, Annual Withholding Tax Return for U.S. Source Income of Foreign Persons, and Form 1042-S, Foreign Person's U.S. Source Income Subject to Withholding.

DATES: Written comments should be received on or before August 14, 2000 to be assured of consideration.

ADDRESSES: Direct all written comments to Garrick R. Shear, Internal Revenue Service, room 5244, 1111 Constitution Avenue NW., Washington, DC 20224.

FOR FURTHER INFORMATION CONTACT: Requests for additional information or copies of the forms and instructions should be directed to Carol Savage, (202) 622-3945, Internal Revenue Service, room 5242, 1111 Constitution Avenue NW., Washington, DC 20224.

SUPPLEMENTARY INFORMATION: Title: Form 1042, Annual Withholding Tax Return for U.S. Source Income of Foreign Persons, and Form 1042-S, Foreign Person's U.S. Source Income Subject to Withholding.

OMB Number: 1545-0096.

Form Number: 1042 and 1042-S.

Abstract: Form 1042 is used by withholding agents to report tax withheld at source on payment of certain income paid to nonresident alien individuals, foreign partnerships, or foreign corporations. The IRS uses this information to verify that the correct amount of tax has been withheld and paid to the United States. Form 1042-S is used to report certain income and tax withheld information to nonresident alien payees and beneficial owners.

Current Actions: There are no major changes to Form 1042. However, the following changes are under consideration for the 2001 Form 1042-S:

1. Withholding agents will use a separate Form 1042-S for each type of FDAP (fixed or determinable, annual or periodic payment) they report to the IRS on Copy A of Form 1042-S.

2. New box 8 will be added to reflect the new reimbursement procedure outlined in Regulations section 1.1461-2(a)(2)(i).

3. New boxes 9 and 14, “TIN type indicator checkboxes,” will be added at the request of the Information Reporting Program Advisory Committee.

4. New boxes 17 through 20 will be added to request identifying information (i.e., name, country code, address, and TIN) about nonqualified intermediaries or flow-through entities (e.g., partnerships and certain trusts and hybrid entities).

5. In an effort to streamline the form, many of the entry spaces will be rearranged, renumbered, or changed from letters to numbers.

Type of Review: Revision of a currently approved collection.

Affected Public: Business or other for profit organizations and individuals or households.

Estimated Number of Respondents: 22,000.

Estimated Time Per Respondent: 40 hours, 43 minutes.

Estimated Total Annual Burden Hours: 895,840.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: June 6, 2000.
Garrick R. Shear,
IRS Reports Clearance Officer.

[FR Doc. 00-15041 Filed 6-13-00; 8:45 am]

BILLING CODE 4830-01-U